Proclamation 8191 of October 12, 2007

White Cane Safety Day, 2007

By the President of the United States of America

A Proclamation

Our country upholds the value of every person, and all Americans deserve an opportunity to realize the American dream. Many citizens who are blind or visually impaired use white canes to achieve greater independence and increase mobility and productivity. On White Cane Safety Day, we celebrate the symbolism of the white cane, and we underscore our dedication to ensuring more individuals have the ability to lead active lives and achieve their personal and professional goals.

My Administration is committed to helping Americans with disabilities live and work with greater freedom. Through the New Freedom Initiative, we are building on the progress of the Americans with Disabilities Act and helping our citizens who are blind or visually impaired gain greater access to the workplace, school, and community life. By working to tear down barriers, we are creating a society where all people are encouraged to reach their full potential and where the promise of our great Nation is accessible for everyone.

The Congress, by joint resolution (Public Law 88-628) approved on October 6, 1964, as amended, has designated October 15 of each year as “White Cane Safety Day.”

NOW, THEREFORE, I, GEORGE W. BUSH, President of the United States of America, do hereby proclaim October 15, 2007, as White Cane Safety Day. I call upon public officials, business leaders, educators, and all the people of the United States to observe this day with appropriate ceremonies, activities, and programs.

IN WITNESS WHEREOF, I have hereunto set my hand this twelfth day of October, in the year of our Lord two thousand seven, and of the Independence of the United States of America the two hundred and thirty-second.

[FR Doc. 07-5140

Filed 10-15-07; 8:53 am]

Billing code 3195-01-P